DEPARTMENT OF HEALTH AND HUMAN SERVICES

Centers for Medicare and Medicaid Services

[Document Identifier: CMS-10184]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320(a)(2)(ii). This is necessary to ensure compliance with an initiative of the Administration. We cannot reasonably comply with the normal clearance procedures because of an unanticipated event, as stated in 5 CFR 1320.13(a)(2)(iii). The Centers for Medicare and Medicaid Services (CMS) is requesting that an information collection request (ICR) for the Payment Error Rate Measurement (PERM) and Medicaid Eligibility Quality Control (MEQC), be processed under the emergency clearance process. Approval of this package is essential in order to comply with the Children's Health Insurance Program Reauthorization Act (CHIPRA). CHIPRA requires CMS to give States in a year that they are participating in PERM the option to substitute MEQC data to complete the requirements of the PERM eligibility review and also the option to substitute PERM eligibility data to complete the requirements of the MEQC review. CHIPRA makes the substitution of MEQC data effective April 1, 2009 and CMS must implement this option quickly for States to use.

In addition, a State in the ongoing Fiscal Year (FY) 2009 cycle has already implemented this option but has no means to report the data to CMS. CMS also has an upcoming cycle for FY 2010 in which more States will consider substituting MEQC data for the coming PERM measurement. CMS hopes that with an emergency approval of this PRA package, the FY 2009 cycle can continue and the FY 2010 cycle can begin as close to the scheduled start date as possible.

1. Type of Information Collection Request: Revision of a currently approved collection; Title of Information Collection: Eligibility Error Rate Measurement in Medicaid and the Children's Health Insurance Program; Use: The collection of information is necessary for CMS to produce national error rates for Medicaid and CHIP as required by Public Law 107-300, the IPIA of 2002. The collection of information is also necessary to implement provisions from the Children's Health Insurance Program Reauthorization Act of 2009 (CHIPRA) (Pub. L. 111-3) with regard to the Medicaid Eligibility Quality Control (MEQC) and Payment Error Rate Measurement (PERM) programs. The information collected from the States selected for review will be used by CMS to ensure States use a statistically sound sampling methodology, to ensure the States complete reviews on all cases sampled, and will be used by the federal contractor to calculate State and national Medicaid and CHIP eligibility error rates. Form Number: CMS-10184 (OMB#: 0938-1012); Frequency: Reporting—Occasionally; Affected Public: State, Local, Tribal Governments; Number of Respondents: 34; Total Annual Responses: 53; Total Annual Hours: 942,764. (For policy questions regarding this collection contact Jessica Woodard at 410-786-9249. For all other issues call 410-786-1326.)

CMS is requesting OMB review and approval of this collection by August 21, 2009, with a 180-day approval period. Written comments and recommendations will be considered from the public if received by the individuals designated below by August 10, 2009.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on 410-786-1326.

Interested persons are invited to send comments regarding the burden or any other aspect of these collection of information requirements. However, as noted above, comments on these information collection and recordkeeping requirements must be mailed and/or faxed to the designees referenced below by August 10, 2009.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

3. By Facsimile or E-mail to OMB. OMB, Office of Information and Regulatory Affairs, Attention: CMS Desk Officer, Fax Number: (202) 395-6974, E-mail: OIRA_submission@omb.eop.gov.

Dated: July 17, 2009.
Michelle Shortt,
Director, Regulations Development Group, Office of Strategic Operations and Regulatory Affairs.

[FR Doc. E9-17603 Filed 7-23-09; 8:45 am]

BILLING CODE 4120-01-P